DEPARTMENT OF THE INTERIOR

Fish and Wildlife Service

Bon Secour National Wildlife Refuge

AGENCY: Fish and Wildlife Service, Interior.

ACTION: Notice of Availability of the Draft Comprehensive Conservation Plan/Environmental Assessment for Bon Secour National Wildlife Refuge in Baldwin County, Alabama.

SUMMARY: The Fish and Wildlife Service announces that a Draft Comprehensive Conservation Plan/Environmental Assessment for Bon Secour National Wildlife Refuge is available for review and comment. The National Wildlife Refuge System Administration Act of 1966, as amended by the National Wildlife Refuge System Improvement Act of 1997, requires the Service to develop a comprehensive conservation plan for each national wildlife refuge. The purpose in developing a comprehensive conservation plan is to provide refuge managers with a 15-year strategy for achieving refuge purposes and contributing toward the mission of the National Wildlife Refuge System, consistent with sound principles of fish and wildlife management, conservation, legal mandates, and Service policies. In addition to outlining broad management direction on conserving wildlife and their habitats, the plan identifies wildlife-dependent recreational opportunities available to the public, including opportunities for hunting, fishing, wildlife observation and photography, and environmental education and interpretation.

Proposed goals for the refuge include:

• Identifying, conserving, managing, enhancing, and restoring populations of native fish and wildlife species representative of coastal Alabama, with special emphasis on migratory birds and threatened and endangered species.

• Identifying, conserving, managing, enhancing, and restoring the natural diversity, abundance, and ecological functions of refuge habitats and associated plant communities, with an emphasis on managing designated critical habitat for threatened and endangered species.

• Identifying and conserving archaeological and natural resources on the refuge and promoting conservation through interagency and private landowner cooperation, partnerships, and land protection programs on the Fort Morgan Peninsula and coastal Alabama.

• Providing the public with quality interpretation, outreach opportunities, environmental education programs, and recreational activities that lead to a greater understanding, enjoyment, and appreciation of fish, wildlife, habitats, and cultural resources of coastal Alabama.

Compatibility determinations for recreational fishing, wildlife observation, photography, hiking, environmental education and interpretation, swimming and beach use, scientific research, dogs on the beach, and bicycling are included in the draft plan.

Proposed Action

The proposed action is to adopt and implement a comprehensive conservation plan for the refuge that best achieves the refuge's purpose, vision, and goals; contributes to the National Wildlife Refuge System mission; addresses the significant issues and relevant mandates; and is consistent with principles of sound fish and wildlife management. The Service analyzed four alternatives for managing the refuge and chose Alternative D as the one to best achieve all of these elements.

Alternatives

Alternative A—Represents the status quo; e.g., no changes from current management of the refuge. Existing refuge management and public outreach practices would be favored under this alternative. All refuge management actions would be directed towards achieving the refuge's primary purposes including: (1) Preserving habitat to ensure the well-being of nationally threatened and endangered species; (2) conserving an undisturbed beach/dune ecosystem which includes a diversity of fish, wildlife, and their habitats; (3) serving as a living laboratory for scientists and students; and (4) providing wildlife-oriented recreation for the public.

Refuge management programs would continue to be developed and implemented with little baseline biological information. Active habitat management would include beach/dune habitat improvement and restoration, protection of nesting sea turtles, and prescribed burning designed to reduce fuel loads. Land would be acquired from willing sellers within the current acquisition boundary totaling approximately 12,570 acres.

Fishing and wildlife observation would continue to be the major focuses of the refuge public use program, with no expansion of current opportunities. Current restrictions or prohibitions would remain. No new trails would be developed, but the refuge staff would continue to maintain the existing trails. Environmental education and interpretation and wildlife photography would be accommodated on a case-by-case basis. Funding to construct a maintenance facility and to rehabilitate existing facilities would be requested.

Alternative B—Expands wildlife and habitat management activities, while maintaining current public use and education. Under this alternative, the emphasis would be to improve refuge resources for wildlife, while still maintaining those public use opportunities which presently exist. Most refuge management actions would be directed toward preserving, enhancing, restoring, and managing the beach/dune habitat for the benefit of the Alabama beach mouse and nesting sea turtles. Prescribed burning would be used to improve habitat for neotropical migratory birds. Other national, regional, and state goals to protect and restore forest, grassland, and scrub/shrub bird populations would be supported secondarily in habitats that are inland from the beach/dune habitat. Baseline data would be collected, standardized surveys implemented, and populations monitored.

Additional staff would include a biological technician and a law enforcement officer to accomplish objectives for establishing baseline data on refuge resources, managing habitats, and protecting biological resources.

Under this alternative the refuge would continue to seek lands from willing sellers within the acquisition boundary. Non-traditional land protection methods would be developed and employed.

Public uses would include wildlife observation and photography, limited interpretation, and fishing. Under this alternative, outreach and environmental education would occur on a sporadic, time-permitting basis. No evaluation of existing uses would occur. Fishing and wildlife observation would continue to be the major focus for the public use program, with no expansion of enhancement of current opportunities. No new trails would be developed, but the refuge staff would continue to maintain the existing trails. All new funding would support the wildlife and habitat management programs, with annual maintenance funding to support upkeep of existing public use facilities. Partnership opportunities would not be feasible, as full attention would be on managing refuge lands and collecting biological information. This alternative in no way addresses the increase in visitation that has occurred in the past 5 years and that is predicted to continue.

Alternative C—Maintains current wildlife and habitat management activities, while expanding public use and education. This approach would maintain the current wildlife and habitat management activities while allowing for significantly more public recreational uses. Additional staff needed to implement this alternative includes an outdoor recreation planner, a law enforcement officer, and a seasonal maintenance worker. Trails, parking lots, and interpretive signage would be constructed in every refuge unit, along with added environmental education and watchable wildlife programs. Additional staff would be used for developing and presenting both on- and off-site outreach and interpretation programs. A user fee and permit system would be implemented for fishing and beach use. A visitor center and headquarters office would be constructed on the refuge and would include an environmental education classroom and meeting facilities.

Land acquisition within the current acquisition boundary would continue with emphasis on those lands that can provide additional public use opportunities and beach access.

Sporadic beach mouse live-trapping and monitoring of sea turtle nests on refuge beaches would continue. No new surveys on migratory songbirds, breeding songbirds, shorebirds and marshbirds, and wintering shorebirds would occur. Baseline data on herpetofauna would not be collected. Only dune restoration habitat projects would occur. Grassland and scrub/shrub habitat would not be restored and managed and prescribed fire would continue to focus on fuel reduction versus enhancing bird habitats. All new partnerships would be related to visitor services, public outreach, and environmental education.

Alternative D—Expands wildlife and habitat management activities, while optimizing public use and involvement. The Service planning team has identified Alternative D as the preferred alternative. This alternative was developed based on public input and the best judgment of the planning team. The strategies presented in the draft plan were developed as a direct result of the selection of Alternative D.

This alternative would promote a greater understanding and protection of fish, wildlife, and their habitats, and higher quality, balanced recreational opportunities for visitors. Fishing would continue with greater emphasis on the quality of the experience. Education and interpretation would be promoted through regular programs and partnerships with local schools. Wildlife observation and photography opportunities would be expanded, including a kayak trail and observation towers, highlighting refuge management programs and unique wildlife habitats. A user fee and permit would be implemented to facilitate night fishing at Mobile Point. A visitor center and headquarters office would be constructed on the refuge with space for interpretation, environmental education, and staff.

Research studies on the refuge would be fostered and partnerships developed with other agencies and universities to provide needed resources and experiment sites, while meeting the needs of the refuge's wildlife and habitat management programs. Research would also benefit conservation efforts throughout the Central Gulf Coast to preserve, enhance, restore, and manage coastal barrier island habitat. New surveys on birds, reptiles, and amphibians would be initiated to develop baseline information.

Additional staff would include both biological and outreach personnel. A biological technician, outdoor recreation planner, seasonal maintenance worker, and full-time law enforcement officer would be added to accomplish objectives for establishing baseline data on refuge resources, managing habitats, providing opportunities and facilities for wildlife observation and photography, providing educational programs that promote a greater understanding of refuge resources, and protecting natural and cultural resources and refuge visitors.

Under this alternative, the refuge would continue to seek acquisition of all lands within the present acquisition boundary. Lands acquired as part of the refuge would be made available for compatible wildlife-dependent public recreation and environmental education opportunities, where appropriate. Pristine lands that provide high quality habitat and connectivity to existing refuge lands would be priority acquisitions. Equally important acquisition tools to be used include: transfer lands, partnerships with conservation organizations, conservation easements with adjacent landowners, and leases/cooperative agreements with state agencies.

Actions Common to All Alternatives

All three alternatives share the following management concepts and techniques for achieving the goals of the refuge:

• Restoring native habitats;

• Establishing, maintaining, and improving partnerships with landowners and local, state, and federal agencies and organizations;

• Coordinating management actions with local and state land and resource management agencies;

• Monitoring Alabama beach mouse populations and sea turtle nesting in partnership with others;

• Removing non-native invasive plants;

• Encouraging scientific research on the refuge; and

• Continuing land acquisition within the refuge boundary.

DATES: A meeting will be held at the Gulf Shores Adult Activities Center to present the plan to the public. Mailings, newspaper articles, and postings on the refuge Web site will be the avenues to inform the public of the date and time for this meeting. Individuals wishing to comment on the Draft Comprehensive Conservation Plan/Environmental Assessment for Bon Secour National Wildlife Refuge should do so within 30 days following the date of this notice. Public comments were requested, considered, and incorporated throughout the planning process in numerous ways. Public outreach has included public scoping meetings, technical workgroups, planning updates, and a Federal Register notice.

ADDRESSES: Requests for copies of the Draft Comprehensive Conservation Plan/Environmental Assessment should be addressed to Robert Cail, Refuge Manager, Bon Secour National Wildlife Refuge, 12295 State Highway 180, Gulf Shores, Alabama 36542. Comments on the draft may be submitted to the above address or via electronic mail to bonsecour@fws.gov. Please include your name and return address in your Internet message. Our practice is to make comments, including names and home addresses of respondents, available for public review during regular business hours. Individual respondents may request that we withhold their home addresses from the record, which we will honor to the extent allowable by law.

SUPPLEMENTARY INFORMATION: Bon Secour National Wildlife Refuge is located on the Gulf Coast of Alabama, 8 miles west of the city of Gulf Shores, Alabama, in Baldwin and Mobile Counties. The refuge is divided into five separate management units along the Fort Morgan Peninsula and Little Dauphin Island. Although the refuge was established in 1980, to date, only 6,978 acres have been acquired within the acquisition boundary totaling approximately 12,570 acres, including the 575 acres leased from the State of Alabama. The Service has management jurisdiction along the shoreline above mean high tide except on Little Dauphin Island, which contains 560 acres of submerged bottoms. The potential wildlife habitat values of beach/dune, maritime forest, and estuarine habitats provided the impetus to purchase the properties.

Management efforts since 1985 have emphasized acquiring land, securing staff to operate the refuge, and initiating conservation programs that benefit endangered wildlife species. However, Service acquisition of key properties, such as inholdings and beach/dune habitat, may not be realized within the 15-year planning period due to budget constraints and landowner preferences. The five units within the acquisition boundary have a significant “edge,” which contributes to the predation of birds, sea turtles, and beach mice. Edge effect is the tendency of a transitional zone between communities to support more species and higher population densities than any of the surrounding communities.

Current conservation management projects for the refuge include: recruiting and training staff and improving existing facilities; managing habitats to reduce the threats and problems associated with species of concern; acquiring land to complete refuge boundaries; assisting in sea turtle and Alabama beach mouse recovery; and defining research within the beach/dune area and involving partners and volunteers to accomplish this research.

FOR FURTHER INFORMATION CONTACT: Robert Cail, Refuge Manager, Bon Secour National Wildlife Refuge, telephone: 251/540-7720; fax: 251/540-7301, or mail (write to Refuge Manager at address in ADDRESSES section).

Authority: This notice is published under the authority of the National Wildlife Refuge System Improvement Act of 1997, Pub. L. 105-57.

Dated: January 6, 2005.
Cynthia K. Dohner,
Acting Regional Director.

[FR Doc. 05-2182 Filed 2-3-02; 8:45 am]

BILLING CODE 4310-55-M